DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; 67 FR 46519, July 15,2002; and 68 FR 787-793, January 7, 2003; 68 FR 64357-64357, November 13, 2003; 68 FR 64357-64357-64358, and as last amended at 70 FR 42347-42348, July 22, 2005.)

This notice reflects organizational changes in the Health Resources and Services Administration, Bureau of Primary Health Care (RC). Specifically, this notice updates the functional statements of the Bureau of Primary Health Care.

Chapter RC—Office of the Associate Administrator

Section RC-10, Organization

Delete in its entirety and replace with the following: The Bureau of Primary Health Care (BPHC) is headed by an Associate Administrator, who reports directly to the Administrator, Health Resources and Services Administration. The Bureau of Primary Health Care includes the following components:

(1) Office of the Associate Administrator (RC);

(2) Office of Minority and Special Populations (RCG);

(3) Office of Policy and Program Development (RCH);

(4) Office of Quality and Data (RCK);

(5) Office of Administrative Management (RCM);

(6) Eastern Division (RCN);

(7) Central Mid-Atlantic Division (RCP);

(8) Western Division (RCQ);

(9) Division of National Hansen's Disease Programs (RC7); and

(10) Division Immigration Health Service (RC9).

Section RC-20, Functions

(1) Delete the functional statement for the Office of the Associate Administrator (RC) and replace in its entirety; (2) Establish the Office of Administrative Management (RCM); (3) Delete the Division of Health Center Management (RCJ) in its entirety and replace with the following new Divisions: Eastern Division (RCN), Central Mid-Atlantic Division (RCP), and Western Division (RCQ); (4) Delete the Division of State and Community Assistance (RCL) in its entirety; (5) Re-title the Division of Policy and Development (RCH) as the Office of Policy and Program Development (RCH) and replace its functional statement in its entirety; (6) Re-title the Division of Clinical Quality (RCK) as the Office of Quality and Data (RCK) and replace its functional statement in its entirety; and (7) Delete the functional statement for the Office of Minority and Special Populations (RCG) and replace in its entirety.

Office of the Associate Administrator (RC)

Provides overall leadership, direction, coordination, and planning in support of Bureau programs: (1) Establishes program goals, objectives and priorities, and provides oversight as to their execution; (2) plans, directs, coordinates and evaluates Bureau-wide management activities; and (3) maintains effective relationships within HRSA and with other Department of Health and Human Services (HHS) organizations, other Federal agencies, State and local governments, and other public and private organizations concerned with primary health care, eliminating health disparities, and improving the health status of the Nation's underserved and vulnerable populations.

Office of Minority and Special Populations (RCG)

Serves as the organizational focus for the coordination of Bureau activities relating to the delivery of health services to minority and special populations, including migrant and seasonal farmworkers, homeless persons, and residents of public housing. Specifically, (1) ensures that the needs and special circumstances of minority and special populations and the provider organizations that serve them are addressed in BPHC programs and policies; (2) advises BPHC about the needs of minority and special populations; (3) identifies, provides and coordinates assistance to communities, community-based organizations and BPHC programs related to the development, delivery and expansion of services targeted to minority and special populations; (4) coordinates Bureau activities for minority and special populations within HRSA and HHS, and with other Federal agencies, State and local governments, and other public and private organizations concerned with primary health care, eliminating health disparities, and improving the health status of the Nation's underserved and vulnerable populations; and (5) provides support to the National Advisory Council on Migrant Health.

Office of Policy and Program Development (RCH)

Serves as the organizational focus for the development of BPHC policies and programs. Specifically, (1) leads and monitors the development and expansion of health centers and health systems infrastructure; (2) identifies, provides and coordinates assistance to communities, community-based organizations and BPHC programs related to the development and expansion of health centers and health systems infrastructure; (3) manages the Bureau's loan guarantee program; (4) oversees and coordinates the Federally Qualified Health Center (FQHC) Look-Alike program; (5) leads and coordinates the analysis, development and drafting of policy impacting BPHC's programs; (6) consults and coordinates with other components within HRSA and HHS, and with other Federal agencies, State and local governments, and other public and private organizations on issues affecting BPHC's policies and programs; (7) performs environmental scanning on issues that affect BPHC's programs; (8) monitors BPHC's activities in relation to HRSA's Strategic Plan; and (9) serves as the Bureau's focal point for communication and program information.

Office of Quality and Data (RCK)

Serves as the organizational focus for quality and program performance reporting. Specifically, (1) provides leadership for implementing BPHC clinical and quality strategies; (2) oversees BPHC Federal Tort Claims Act (FTCA) malpractice programs, clinical, quality improvement, risk management, and patient safety activities to improve policies and programs for primary health care services; (3) serves as the Bureau's focal point for the design and implementation of data systems to assess and improve program performance, including health information technology systems; (4) coordinates BPHC clinical, quality, workforce, health information technology, and performance reporting activities within HRSA and HHS, and with other Federal agencies, State and local governments, and other public and private organizations concerned with primary health care, eliminating health disparities, and improving the health status of the Nation's underserved and vulnerable populations; and (5) identifies, provides and coordinates assistance to BPHC programs around clinical, quality and performance reporting activities.

Office of Administrative Management (RCM)

Plans, directs and coordinates Bureau-wide administrative management activities and has responsibilities related to the awarding of BPHC grant funds. Specifically, (1) serves as the Bureau's principal source for administrative and management advice and assistance; (2) formulates budget justifications for BPHC's programs and provides input into the analysis of BPHC budget execution; (3) provides advice, guidance and coordinates personnel activities for the Bureau including EEO, timekeeping, labor relations, and ethics; (4) provides organization and management analysis, coordinating the allocation of personnel resources, developing policies and procedures for internal operation, and interpreting and implementing the Bureau's management policies, procedures and systems; (5) develops and coordinates Bureau program and administrative delegations of authority activities; (6) provides guidance to the Bureau on financial management activities; (7) provides Bureau-wide support services such as continuity of operations and emergency planning, employee training, contracts, procurement, supply management, equipment utilization, printing, property management, space management, records management, and management reports; (8) performs a range of functions relating to the awarding of appropriated funds, working on recommended grant actions, and maintaining commitment levels for Bureau grantees and programs; (9) serves as the Bureau's Executive Secretariat; and (10) maintains effective relationships within HRSA and HHS, and with other Federal agencies, State and local governments, and other public and private organizations.

Eastern Division (RCN)

Manages BPHC primary health care grant programs and activities within HHS Regions 1, 2 and 4. Specifically, for regions 1, 2 and 4: (1) Manages the post-award administration of the Bureau's primary health care grant programs; (2) serves as the BPHC representative to organizations receiving Bureau grants; (3) promotes a continued focus on efficient and effective care for underserved and vulnerable populations; (4) communicates and interprets program statutory/regulatory requirements, policy, expectations and reporting requirements, providing technical guidance to grantees on the management and integration of community-based systems of care, the adaptation of successful strategies/models, and the resolution of difficult issues; (5) monitors the performance of BPHC primary health care grantees, making programmatic recommendations and providing assistance to improve performance, where appropriate; (6) reviews findings and recommendations of periodic and episodic grantee assessments, developing actions needed to assure continuity of services to underserved and vulnerable populations and appropriate use of Federal resources; (7) identifies, provides and coordinates training and technical assistance activities for BPHC primary health care grant programs, including State-based training and technical assistance; (8) conducts State and regional surveillance on issues that affect BPHC grant programs; and (9) provides consultation to and coordinates activities within HRSA and HHS, and with other Federal agencies, State and local governments, and other public and private organizations involved in the implementation of program activities.

Central Mid-Atlantic Division (RCP)

Manages BPHC primary health care grant programs and activities within HHS Regions 3, 5 and 6. Specifically, for regions 3, 5 and 6: (1) Manages the post-award administration of the Bureau's primary health care grant programs; (2) serves as the BPHC representative to organizations receiving Bureau grants; (3) promotes a continued focus on efficient and effective care for underserved and vulnerable populations; (4) communicates and interprets program statutory/regulatory requirements, policy, expectations and reporting requirements, providing technical guidance to grantees on the management and integration of community-based systems of care, the adaptation of successful strategies/models, and the resolution of difficult issues; (5) monitors the performance of BPHC primary health care grantees, making programmatic recommendations and providing assistance to improve performance, where appropriate; (6) reviews findings and recommendations of periodic and episodic grantee assessments, developing actions needed to assure continuity of services to underserved and vulnerable populations and appropriate use of Federal resources; (7) identifies, provides and coordinates training and technical assistance activities for BPHC primary health care grant programs, including State-based training and technical assistance; (8) conducts State and regional surveillance on issues that affect BPHC grant programs; and (9) provides consultation to and coordinates activities within HRSA and HHS, and with other Federal agencies, State and local governments, and other public and private organizations involved in the implementation of program activities.

Western Division (RCQ)

Manages BPHC primary health care grant programs and activities within HHS Regions 7, 8, 9 and 10. Specifically, for regions 7, 8, 9 and 10: (1) Manages the post-award administration of the Bureau's primary health care grant programs; (2) serves as the BPHC representative to organizations receiving Bureau grants; (3) promotes a continued focus on efficient and effective care for underserved and vulnerable populations; (4) communicates and interprets program statutory/regulatory requirements, policy, expectations and reporting requirements, providing technical guidance to grantees on the management and integration of community-based systems of care, the adaptation of successful strategies/models, and the resolution of difficult issues; (5) monitors the performance of BPHC primary health care grantees, making programmatic recommendations and providing assistance to improve performance, where appropriate; (6) reviews findings and recommendations of periodic and episodic grantee assessments, developing actions needed to assure continuity of services to underserved and vulnerable populations and appropriate use of Federal resources; (7) identifies, provides and coordinates training and technical assistance activities for BPHC primary health care grant programs, including State-based training and technical assistance; (8) conducts State and regional surveillance on issues that affect BPHC grant programs; and (9) provides consultation to and coordinates activities within HRSA and HHS, and with other Federal agencies, State and local governments, and other public and private organizations involved in the implementation of program activities.

Section RC-30, Delegations of Authority

All delegations of authority and re-delegations of authority made to HRSA officials that were in effect immediately prior to this reorganization, and that are consistent with this reorganization, shall continue in effect pending further re-delegation.

This reorganization is effective upon the date of signature.

November 7, 2006.
Elizabeth M. Duke,
Administrator.

[FR Doc. E6-20171 Filed 11-28-06; 8:45 am]

BILLING CODE 4165-15-P